DEPARTMENT OF THE INTERIOR

Bureau of Land Management

[SDM 013790]

Public Land Order No. 7793; Partial Revocation of Public Land Order No. 1535; South Dakota

Correction

In notice document 2012-18885 appearing on page 46112 of the issue of Thursday, August 2, 2012 make the following correction:

On page 46112, in the second column, in the 22nd line from the bottom of the page, “NW¼;SE¼;.” should read “NW¼SE¼.”.

[FR Doc. C1-2012-18885 Filed 8-30-12; 8:45 am]

BILLING CODE 1505-01-D